PEACE CORPS

Existing Collection in Use Without an OMB Control Number

ACTION: 60-Day notice and request for comments.

SUMMARY: The Peace Corps will be submitting the following information collection request to the Office of Management and Budget (OMB) for approval of an existing collection in use without an OMB Control Number. In compliance with the Paperwork Reduction Act of 1995 (44 USC Chapter 35), the Peace Corps invites the general public to comment on this request for approval of an existing collection in use without an OMB Control Number, Returned Peace Corps Volunteer Update Form. This process is conducted in accordance with 5 CFR 1320.10.

DATES: Comments must be submitted on or before October 19, 2010.

ADDRESSES: Comments should be addressed to Denora Miller, FOIA Officer, Peace Corps, 1111 20th Street, NW., Washington, DC 20526. Denora Miller can be contacted by telephone at 202-692-1236 or e-mail at pcfr@peacecorps.gov, mailto:ddunevant@peacecorps.gov. E-mail comments must be made in text and not in attachments.

FOR FURTHER INFORMATION CONTACT: Denora Miller at Peace Corps address above.

SUPPLEMENTARY INFORMATION: Request for approval of an existing collection in use without an OMB Control Number.

OMB Control Number: N/A.

Title: Returned Peace Corps Volunteer Update Form.

Type of Review: Existing collection in use without an OMB Control Number.

Respondents: Returned Peace Corps Volunteers.

Respondents Obligation to Reply: Voluntary.

Burden to the Public:

a. Annual reporting burden: 100 hours.

b. Estimated average burden response: 3 minutes.

c. Frequency of response: Once.

d. Estimated number of likely respondents: 2,000

General description of collection: As part of their service as Volunteers to Peace Corps, former Volunteers (alumni) are encouraged to continue serving the “third goal” of Peace Corps' mission, i.e., helping promote a better understanding of other peoples on the part of Americans. This intake form is the only efficient means whereby alumni can express their interest in learning more about specific third goal opportunities while sharing their contact information to receive updates about the various third goal programs.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

Dated: August 13, 2010.
Garry W. Stanberry,
Deputy Associate Director for Management.

[FR Doc. 2010-20643 Filed 8-19-10; 8:45 am]

BILLING CODE 6051-01-P